DEPARTMENT OF VETERANS AFFAIRS

Veterans' Disability Benefits Commission; Amended—Notice of Meeting

The Department of Veterans Affairs (VA) gives notice under Public Law 92-463 (Federal Advisory Committee Act) that the Veterans' Disability Benefits Commission has amended the location, schedule and agenda for its meeting on May 18-19, 2006. The sessions will take place at the FDIC/Seidman Training Center, 3501 Fairfax Drive, Arlington, VA. On May 18, the meeting will begin at 8:30 a.m. and end at 4 p.m. On May 19, the meeting will begin at 8 a.m. and end at 3 p.m. The meeting is open to the public.

The agenda on May 18 will feature an overview of the Department of Defense program for assessing and filling the adaptive equipment needs of injured or disabled service members retooling for employment. The agenda will also feature updates on the progress of the studies being conducted by the Institute of Medicine (IOM), a report of the Commission's site visits to Illinois and Missouri, and a briefing on Quality of Life. The Government Accountability Office will present its findings on the disability benefits available to Federal, state and local employees who serve the public in high-risk occupations and are injured in the line of duty. The agenda for the meeting on May 19 will feature updates on the progress of the studies being conducted by the Center for Naval Analyses (CNA), with the results of CNA's literature review; and a continuing discussion of Social Security Disability Insurance (SSDI), to include a panel of veterans service organizations presenting views on SSDI.

Interested persons may attend and present oral statements to the Commission on May 19. Oral presentations will be limited to five minutes or less, depending on the number of participants. Interested parties may provide written comments for review by the Commission prior to the meeting, by e-mail to veterans@vetscommission.intranets.com or by mail to Mr. Ray Wilburn, Executive Director, Veterans' Disability Benefits Commission, 1101 Pennsylvania Avenue, NW., 5th Floor, Washington, DC 20004.

Dated: May 3, 2006.
By Direction of the Secretary.
E. Philip Riggin,
Committee Management Officer.

[FR Doc. 06-4421 Filed 5-11-06; 8:45am]

BILLING CODE 8320-01-M